DEPARTMENT OF ENERGY

U.S. Energy Information Administration

Agency Information Collection Extension With Changes

AGENCY: U.S. Energy Information Administration (EIA), U.S. Department of Energy (DOE).

ACTION: Notice.

SUMMARY: EIA has submitted an information collection request to the Office of Management and Budget (OMB) for extension under the provisions of the Paperwork Reduction Act of 1995. The information collection requests a three-year extension of its Form OE-417 Electric Emergency Incident and Disturbance Report, OMB Control Number 1901-0288. The form collects information on electric emergency incidents and disturbances for DOE's use in fulfilling its overall national security and National Response Framework and other energy management responsibilities.

DATES: Comments regarding this information collection must be received on or before February 9, 2018. If you anticipate that you will be submitting comments, but find it difficult to do so within the period of time allowed by this notice, please advise the DOE Desk Officer at OMB of your intention to make a submission as soon as possible. The Desk Officer may be telephoned at 202-395-1254.

ADDRESSES: Written comments should be sent to the DOE Desk Officer: James Tyree, Office of Information and Regulatory Affairs, Office of Management and Budget, New Executive Office Building, Room 9249, 735 17th Street NW, Washington, DC 20503, james.n.tyree@omb.eop.gov.

And to Matthew Tarduogno, U.S. Department of Energy, 1000 Independence Avenue SW, Washington, DC 20585, Fax: 202-586-2623, Email: OE417@hq.doe.gov.

FOR FURTHER INFORMATION CONTACT: Requests for additional information or copies of the information collection instrument and instructions should be directed to Matthew Tarduogno, U.S. Department of Energy, 1000 Independence Avenue SW, Washington, DC 20585, phone: 202-586-2892, or email it to matthew.tardugono@hq.doe.gov. Form OE-417 and its instructions are available on the internet at https://www.oe.netl.doe.gov/oe417.aspx.

SUPPLEMENTARY INFORMATION: This information collection request contains:

(1) OMB No. 1901-0288;

(2) Information Collection Request Title: Electric Emergency Incident and Disturbance Report.

(3) Type of Request: Three-year extension with changes;

(4) Purpose: The U.S Department of Energy uses Form OE-417, Emergency Incident and Disturbance Report, to monitor emergencies and incidents that affect U.S. electric power systems, including events such as the power outages caused by hurricanes Harvey, Irma, Nate and Maria during the 2017 Hurricane Season. The information gathered allows DOE to conduct post-incident reviews examining significant interruptions, or potential interruptions, of electric power or threats to the national electric system. Form OE-417 enables DOE to meet the Department's national security responsibilities and requirements as the lead agency for Emergency Support Function (ESF) #12—Energy under the National Response Framework and the Sector-Specific Agency for energy under Presidential Policy Directive (PPD) 21 and PPD 41. The information may also be shared with other non-regulatory federal agencies assisting in emergency response and recovery operations, or investigating the causes of an incident or disturbance to the national electric system. Public summaries are posted to the Form OE-417 website on a monthly basis to keep the public informed.

(4a) Changes to Information Collection:

1. The main change to Form OE-417 is to incorporate questions that are or will be included in the North American Electric Reliability Corporation (NERC) EOP-004 Reliability Standard Event Reporting Form. With the changes to Form OE-417 if a respondent elects to have the form submitted to NERC, the entity does not need to file an EOP-004 Event Reporting Form. Form OE-417 will now collect the same information as EOP-004. By incorporating the same information, and aligning language across these two forms, entities will only be required to submit Form OE-417. This will reduce the reporting burden for the electric power industry. Additional changes to Form OE-417 clarify and improve the flow of questions.

2. The instructions include a note that “NERC has determined that, for U.S. NERC reporting entities, the revised Form OE-417 meets NERC's submittal requirements” (i.e. Form EOP-004).

3. Reintroduced Email submissions; however, online submissions will remain the preferred method. Rewording of descriptions describing the criteria and timing for when a report should be filed.

4. Named the three categories of submission: Emergency Alert; Normal Report; System Report to provide better clarity and easy reference under “Criteria for Filing”.

5. Aligned alert criteria 5 and 6 with EOP-004 Reliability Standard terminology

6. Under “Criteria for Filing” section: 12 new data elements are added to collect the additional information that NERC collects or will collect on under the EOP-004 Reliability Standard. The additional questions are in a new category of submission called “System Report” and include:

• Damage or destruction of a Facility within its Reliability Coordinator Area, Balancing Authority Area or Transmission Operator Area that results in action(s) to avoid a Bulk Electric System Emergency;

• Damage or destruction of its Facility that results from actual or suspected intentional human action;

• Physical threat to its Facility excluding weather or natural disaster related threats, which has the potential to degrade the normal operation of the Facility. Or suspicious device or activity at its Facility;

• Physical threat to its Bulk Electric System control center, excluding weather or natural disaster related threats, which has the potential to degrade the normal operation of the control center. OR suspicious device or activity at its Bulk Electric System control center;

• Bulk Electric System Emergency resulting in voltage deviation on a Facility; a voltage deviation of equal to or greater than 10% of nominal voltage sustained for greater than or equal to 15 continuous minutes;

• Uncontrolled loss of 200 Megawatts or more of firm system loads for 15 minutes or more from a single incident for entities with previous year's peak demand less than or equal to 3,000 Megawatts;

• Total generation loss, within one minute of: greater than or equal to 2,000 Megawatts in the Eastern or Western Interconnection or greater than or equal to 1,400 Megawatts in the ERCOT Interconnection;

• Complete loss of off-site power (LOOP) affecting a nuclear generating station per the Nuclear Plant Interface Requirements;

• Unexpected Transmission loss within its area, contrary to design, of three or more Bulk Electric System Facilities caused by a common disturbance (excluding successful automatic reclosing);

• Unplanned evacuation from its Bulk Electric System control center facility for 30 continuous minutes or more;

• Complete loss of Interpersonal Communication and Alternative Interpersonal Communication capability affecting its staffed Bulk Electric System control center for 30 continuous minutes or more;

• Complete loss of monitoring or control capability at its staffed Bulk Electric System control center for 30 continuous minutes or more.

7. Line numbers 1 through 20 were relabeled as letters A through T to prevent confusion between line numbers and alert criteria.

8. An Alert status category “system report,” was added which shall be filed by the later of 24 hours after the recognition of the incident OR by the end of the next business day. This change aligns with the EOP-004 Reliability Standard. 4:00 p.m. local time will be definition for the end of the business day.

9. The Electric Emergency Incident and Disturbance Report section, lines J, K, L were reorganized into “Cause, Impact, and Action Taken” for clarity and ease of use and additional items were added to align with NERC's EOP-004 Reliability Standard.

10. The burden per response for completing Form OE-417 is reduced from 2.16 hours to 1.8 hours based on findings from the results from cognitive research conducted by the U.S. Energy Information Administration.

11. The form and instructions were updated to specify maintaining the continuity of the “Bulk Electric System” versus “the electric power system” in the “Criteria for Filing” section Line 8. This change is based on a comment provided during the 60-day comment period.

12. The words “lines 13-17” were replaced with “lines M-Q” under the “Response Due” section, to match updated line labels on the form. This change is based on a comment provided during the 60-day comment period.

13. A section was added to allow respondents to select whether the information provided in the Form is submitted to the North American Electric Reliability Corporation (NERC) and/or the Electricity Information Sharing and Analysis Center (E-ISAC).

14. EIA amended its data protection policy for information reported on Schedule 2 of Form OE-417. Currently this information is protected from public release to the extent that it satisfies the criteria for exemption under the Freedom of Information Act (FOIA), 5 U.S.C. 552, the DOE regulations, 10 CFR 1004.11 implementing FOIA, and the Trade Secrets Act, 18 U.S.C. 1905. EIA will use the Critical Energy Infrastructure Information (CEII) regulations as set forth by the Federal Energy Regulatory Commission (FERC) to implement the requirements of the Fixing America's Surface Transportation (FAST) Act, Pub. L. 114-94, pursuant to section 215A(d) of the Federal Power Act, as amended, to protect information reported on Schedule 2 in addition to continuing to apply FOIA exemptions and using the Trade Secrets Act. This change strengthens DOE's ability to protect information reported on Schedule 2 of Form OE-417 and provides additional authority for DOE to withhold company identifiable information from public release.

15. The new data protection provision for Form OE-417 is as follows:

• The information reported on Schedule 1 will be considered “public information” and may be publicly released in company or individually identifiable form.

• Information reported on Schedule 2 of Form OE-417 will not be disclosed to the public to the extent that it satisfies the criteria for exemption under the Freedom of Information Act (FOIA), 5 U.S.C. 552, the DOE regulations, 10 CFR 1004.11, implementing the FOIA, the Trade Secrets Act, 18 U.S.C. 1905 and Critical Energy Infrastructure Information regulations as defined by the Federal Energy Regulatory Commission pursuant to section 215A(d) of the Federal Power Act, as amended.

In accordance with the Federal Energy Administration Act, DOE provides company-specific protected data to other Federal agencies when requested for official use. The information reported on this form may also be made available, upon request, to another component of DOE; to any Committee of Congress, the U.S. Government Accountability Office, or other Federal agencies authorized by law to receive such information. A court of competent jurisdiction may obtain this information in response to an order. The information may be used for any non-statistical purposes such as administrative, regulatory, law enforcement, or adjudicatory purposes.

(5) Annual Estimated Number of Respondents: 2,395.

(6) Annual Estimated Number of Total Responses: 300.

(7) Annual Estimated Number of Burden Hours: 5,315.

(8) Annual Estimated Reporting and Recordkeeping Cost Burden: $391,503.

Statutory Authority: Section 13(b) of the Federal Energy Administration Act of 1974, Pub. L. 93-275, codified as 15 U.S.C. 772(b) and the DOE Organization Act of 1977, Pub. L. 95-91, codified at 42 U.S.C. 7101 et seq. In addition, 15 U.S.C. 772(b); 764(a); 764(b); and 790a, of the Federal Energy Administration Act of 1974 (FEA Act), Pub. L. 93-275, as well as the Public Utility Regulatory Policies Act of 1978 (16 U.S.C. 2601, Pub. L. 93-275.)

Issued in Washington, DC, on January 3, 2018.
L. Devon Streit,
Deputy Assistant Secretary, Infrastructure Security and Energy Restoration, Office of Electricity Delivery & Energy Reliability, U. S. Department of Energy.

[FR Doc. 2018-00258 Filed 1-9-18; 8:45 am]

BILLING CODE 6450-01-P